DEPARTMENT OF THE INTERIOR

National Indian Gaming Commission

25 CFR Part 523

RIN 3141-AA45

Review and Approval of Existing Ordinances or Resolutions

AGENCY: National Indian Gaming Commission, Interior.

ACTION: Notice of proposed rulemaking.

SUMMARY: On November 18, 2010, the National Indian Gaming Commission (NIGC) issued a Notice of Inquiry and Notice of Consultation advising the public that the NIGC was conducting a comprehensive review of its regulations and requesting public comment on the process for conducting the regulatory review. On April 4, 2011, after holding eight consultations and reviewing all comments, NIGC published a Notice of Regulatory Review Schedule setting out a consultation schedule and process for review.

Based on the above review, the Commission proposes to rescind our regulations pertaining to the approval of existing ordinances and resolutions that were enacted by a Tribe prior to February 22, 1993 and that have not been submitted to the NIGC Chair, and to notify the public that it does not intend to take action at this time on certain other regulations identified in the Notice of Regulatory Review Schedule.

DATES: The agency must receive comments on or before December 12, 2011.

ADDRESSES: You may submit comments by any one of the following methods, however, please note that comments sent by electronic mail are strongly encouraged.

• E-mail comments to: reg.review@nigc.gov.

• Mail comments to: National Indian Gaming Commission, 1441 L Street, NW., Suite 9100, Washington, DC 20005.

• Hand deliver comments to: 1441 L Street, NW., Suite 9100, Washington, DC 20005.

• Fax comments to: National Indian Gaming Commission at 202-632-0045.

FOR FURTHER INFORMATION CONTACT: Lael Echo-Hawk, Counselor to the Chairwoman, National Indian Gaming Commission, 1441 L Street, NW., Suite 9100 Washington, DC 20005. Telephone: 202-632-7009; e-mail: reg.review@nigc.gov.

SUPPLEMENTARY INFORMATION: The Indian Gaming Regulatory Act (IGRA or Act), Public Law 100-497, 25 U.S.C. 2701 et seq., authorizes the NIGC to promulgate such regulations and guidelines as it deems appropriate to implement certain provisions of the Act. 25 U.S.C. 2706(b)(10). On November 12, 2010, the Commission issued a Notice of Inquiry (NOI) requesting comment on which of its regulations were most in need of revision, in what order the Commission should review its regulations, and the process NIGC should utilize to make revisions. The NOI was published in the Federal Register on November 18, 2010. 75 FR 70680. The Commission's regulatory review process established a Tribal consultation schedule of 33 meetings over 11 months with a description of the regulation groups to be covered at each consultation.

Removal of Part 523—Review and Approval of Existing Ordinances or Resolutions

Part 523 applies only to gaming ordinances or resolutions enacted by Tribes prior to January 22, 1993, and not yet submitted to the Chairwoman. Comments received in response to the NOI and during Tribal consultation meetings indicated any ordinances or resolutions enacted prior to January 22, 1993 have already been submitted to the Chairwoman. Accordingly, comments support the repeal of this Part. A review of the Commission documents also did not find any ordinances or resolutions meeting the criteria of this Part. Because this regulation appears to be no longer necessary, the Commission proposes to remove this Part.

List of Subjects in 25 CFR Part 523

Gambling, Indian—lands, Indian—Tribal government, Reporting and recordkeeping requirements.

Accordingly, under the authority 25 U.S.C. 2701, the National Indian Gaming Commission proposes to amend 25 CFR chapter III by removing and reserving part 523.

PART 523—[REMOVED AND RESERVED]

Dated: October 3, 2011, in Washington, DC.
Tracie L. Stevens,
Chairwoman.
Steffani A. Cochran,
Vice-Chairwoman.
Daniel J. Little,
Associate Commissioner.

[FR Doc. 2011-25930 Filed 10-11-11; 8:45 am]

BILLING CODE 7565-01-P